DEPARTMENT OF DEFENSE

Department of the Army

Availability for Non-Exclusive, Exclusive, or Partially Exclusive Licensing of U.S. Patent Application Concerning a Coherent Radar and Ladar Polarimeter

AGENCY: Department of the Army, DoD.

ACTION: Notice.

SUMMARY: In accordance with 37 CFR 404.6 and 404.7, announcement is made of the availability for licensing of the invention set forth in U.S. Patent Application No. 10/631,218 entitled “A Coherent Radar and Ladar Polarimeter,” filed on July 25, 2003. The United States Government, as represented by the Secretary of the Army, has rights in this invention.

ADDRESSES: Office of Research and Technology Applications, SDMC-RDTC-TDL (Ms. Susan D. McRae), Bldg. 5220, Von Braun Complex, Redstone Arsenal, AL 35898.

FOR FURTHER INFORMATION CONTACT: Ms. Joan Gilsdorf, Patent Attorney, e-mail: joan.gilsdorf@smdc.army.mil (256) 955-3213 or Ms. Susan D. McRae, Office of Research and Technology Applications, e-mail: susan.mcrae@smdc.army.mil; (256) 955-1501.

SUPPLEMENTARY INFORMATION: The invention pertains to determining the state of polarization of an electromagnetic signal. A polarimeter includes a receiver that receives a first polarization (P1) of the signal and splits the first polarization of the signal into the in-phase (IP1) and quadrature (QP1) components, and receives a second poplarization (P2) of the signal and splits the second polarization of the signal into the in-phase (IP1) and quadrature (QP2) components. The polarimeter may also include a processor that receives each of the in-phase and quadrature components ((IP1), (QP1), (IP2), and (QP2)) of the first and second polarizations and determines the Stokes polarization vector components (s0, s1, s2, and s3) of the signal.

Brenda S. Bowen,
Army Federal Register Liaison Officer.

[FR Doc. 07-851 Filed 2-23-07; 8:45 am]

BILLING CODE 3710-08-M